SECURITIES AND EXCHANGE COMMISSION

[Release No. 34-79613; File No. SR-BOX-2016-50]

Self-Regulatory Organizations; BOX Options Exchange LLC; Notice of Designation of Longer Period for Commission Action on Proposed Rule Change To Amend Rule 5050 Series of Options Contracts Open for Trading To Provide for the Listing and Trading on the Exchange of RealDay™ Options Pursuant to a Pilot Program

December 20, 2016.

On October 26, 2016, BOX Options Exchange LLC (“Exchange”) filed with the Securities and Exchange Commission (“Commission”), pursuant to Section 19(b)(1) of the Securities Exchange Act of 1934 (“Act”) ¹ and Rule 19b-4 thereunder,² a proposed rule change to provide for the listing and trading on the Exchange of RealDay™ Options pursuant to a pilot program. The proposed rule change was published for comment in the Federal Register on November 15, 2016.³ The Commission has received one comment letter on the proposal.⁴

¹ 15 U.S.C. 78s(b)(1).

² 17 CFR 240.19b-4.

³ See Securities Exchange Act Release No. 79258 (November 8, 2016), 81 FR 80125.

⁴ See Letter from Edward T. Tilly, Chief Executive Officer, Chicago Board Options Exchange, Incorporated, to Brent J. Fields, Secretary, Commission, dated December 6, 2016, available at https://www.sec.gov/comments/sr-box-2016-50/box201650-1.pdf.

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is December 30, 2016.

⁵ 15 U.S.C. 78s(b)(2).

The Commission is extending the 45-day time period for Commission action on the proposed rule change. The Commission finds that it is appropriate to designate a longer period within which to take action on the proposed rule change so that it has sufficient time to consider and take action on the Exchange's proposed rule change.

Accordingly, pursuant to Section 19(b)(2) of the Act ⁶ and for the reasons stated above, the Commission designates February 13, 2017, as the date by which the Commission should either approve or disapprove, or institute proceedings to determine whether to disapprove, the proposed rule change (File No. SR-BOX-2016-50).

⁶ 15 U.S.C. 78s(b)(2).

For the Commission, by the Division of Trading and Markets, pursuant to delegated authority.⁷
⁷ 17 CFR 200.30-3(a)(31).
Eduardo A. Aleman,
Assistant Secretary.

[FR Doc. 2016-31105 Filed 12-23-16; 8:45 am]

BILLING CODE 8011-01-P